DEPARTMENT OF EDUCATION

Privacy Act of 1974; System of Records—Early Reading First National Evaluation

AGENCY: Institute of Education Sciences, Department of Education.

ACTION: Notice of a new system of records.

SUMMARY: In accordance with the Privacy Act of 1974, as amended (Privacy Act), the Department of Education (Department) publishes this notice of a new system of records entitled Early Reading First National Evaluation (18-13-08). The system will contain information about participants in the Early Reading First program (Title I, Part B, Subpart 2, Elementary and Secondary Education Act of 1965 (ESEA)), as well as about children attending preschools that applied for but did not receive Early Reading First program funds.

The evaluation obtained a sample of sites from the universe of applicants that applied for Early Reading First (ERF) grants that were awarded in 2003. The treatment group consists of 28 grantees that received ERF funds. The comparison group consists of 37 applicants that did not receive ERF funds and that received average scores from peer reviewers in the interval below the average score of the lowest-scoring funded application. A random sample of three to five preschool classrooms was selected from each ERF grantee in the treatment group and each unfunded applicant site in the comparison group. In each site, up to 33 children were randomly selected from those whose parents have given consent for them to participate in the study.

Specific data collection activities will include direct in-person assessments of children, telephone surveys of parents, self-administered teacher surveys and teacher ratings of children, self-administered preschool director surveys, informal grantee director in-depth interviews, classroom observations, and extraction of records on children. Information collected will include the following: Names; addresses; demographic information such as race/ethnicity, age, educational background, and family income for children in the sample and their parents; preschool staff answers to interview questions; children's results from early literacy and language assessments; and teacher reports of children's social and emotional outcomes.

DATES: The Department seeks comment on this new system of records described in this notice, in accordance with the requirements of the Privacy Act. We must receive your comments on the proposed routine uses for the system of records included in this notice on or before December 15, 2006.

The Department filed a report describing the new system of records covered by this notice with the Chair of the Senate Committee on Homeland Security and Governmental Affairs, the Chair of the House Committee on Government Reform, and the Administrator of the Office of Information and Regulatory Affairs, Office of Management and Budget (OMB) on November 9, 2006. This system of records will become effective at the later date of—(1) The expiration of the 40-day period for OMB review on December 19, 2006 or (2) December 15, 2006, unless the system of records needs to be changed as a result of public comment or OMB review.

ADDRESSES: Address all comments about the proposed routine uses to Dr. Ricky Takai, Associate Commissioner, Evaluation Division, National Center for Education Evaluation and Regional Assistance, Institute of Education Sciences, U.S. Department of Education, 555 New Jersey Avenue, NW., room 502D, Washington, DC 20208-0001. Telephone: (202) 208-7083. If you prefer to send comments through the Internet, use the following address: comments@ed.gov. You must include the term “Early Reading First National Evaluation” in the subject line of the electronic message.

During and after the comment period, you may inspect all comments about this notice in room 502D, 555 New Jersey Avenue, NW., Washington, DC, between the hours of 8 a.m. and 4:30 p.m., Eastern time, Monday through Friday of each week except Federal holidays.

Assistance to Individuals With Disabilities in Reviewing the Rulemaking Record

On request, we supply an appropriate aid, such as a reader or print magnifier, to an individual with a disability who needs assistance to review the comments or other documents in the public rulemaking record for this notice. If you want to schedule an appointment for this type of aid, please contact the person listed under FOR FURTHER INFORMATION CONTACT.

FOR FURTHER INFORMATION CONTACT: Dr. Ricky Takai. Telephone: (202) 208-7083. If you use a telecommunications devise for the deaf (TDD), you may call the Federal Relay Service (FRS) at 1-800-877-8339.

Individuals with disabilities may obtain this document in an alternative format (e.g., Braille, large print, audiotape, or computer diskette) on request to the contact person listed in this section.

SUPPLEMENTARY INFORMATION:

Introduction

The Privacy Act (5 U.S.C. 552a) requires the Department to publish in the Federal Register this notice of a new system of records maintained by the Department. The Department's regulations implementing the Privacy Act are contained in part 5b of title 34 of the Code of Federal Regulations.

The Privacy Act applies to information about individuals that contains individually identifiable information and that is retrieved by a unique identifier associated with each individual, such as a name or social security number. The information about each individual is called a “record,” and the system, whether manual or computer-based, is called a “system of records.” The Privacy Act requires each agency to publish notices of new or altered systems of records in the Federal Register and to prepare reports to the Administrator of the Office of Information and Regulatory Affairs, OMB, the Chair of the Senate Committee on Homeland Security and Governmental Affairs, and the Chair of the House Committee on Government Reform.

Electronic Access to This Document

You may view this document, as well as all other Department of Education documents published in the Federal Register, in text or Adobe Portable Document Format (PDF) on the Internet at the following site: http://www.ed.gov/news/fedregister.

To use PDF you must have Adobe Acrobat Reader, which is available free at this site. If you have questions about using PDF, call the U.S. Government Printing Office (GPO), toll free, at 1-888-293-6498, or in the Washington, DC area at (202) 512-1530.

Note: The official version of this document is the document published in the Federal Register. Free Internet access to the official edition of the Federal Register and the CFR is available on GPO Access at: http://www.gpoaccess.gov/nara/index.html.

Dated: October 2, 2006.
Grover Whitehurst,
Director, Institute of Education Sciences.

For the reasons discussed in the preamble, the Director of the Institute of Education Sciences, U.S. Department of Education publishes a notice of a new system of records to read as follows:

18-13-08

SYSTEM NAME:

Early Reading First National Evaluation.

SECURITY CLASSIFICATION:

None.

SYSTEM LOCATION:

Evaluation Division, National Center for Education Evaluation and Regional Assistance, Institute of Education Sciences, U.S. Department of Education, 555 New Jersey Avenue, NW., room 502D, Washington, DC 20208-0001.

Decision Information Resources, Inc., 2600 Southwest Freeway, Suite 900, Houston, TX 77098.

Mathematica Policy Research, Inc., 600 Alexander Park, Princeton, NJ 08540.

Center for Improving the Readiness of Children for Learning and Education, University of Texas-Houston Health Sciences Center Medical School, 7000 Fannin Street, Houston, TX 77030.

CATEGORIES OF INDIVIDUALS COVERED BY THE SYSTEM:

This system contains records on Early Reading First children and their parents and project staff from Early Reading First programs participating in the national evaluation. In addition, the system contains records for children, parents, and staff in some preschools not receiving Early Reading First funds. The evaluation will obtain a sample of sites from the universe of applicants that applied for Early Reading First (ERF) grants that were awarded in 2003. The treatment group consists of 28 grantees that received ERF funds. The comparison group consists of 37 applicants that did not receive ERF funds and that received average scores from peer reviewers in the interval below the average score of the lowest-scoring funded application. A random sample of three to five preschool classrooms was selected from each ERF grantee in the treatment group and each unfunded applicant site in the comparison group. In each site, up to 33 children were randomly selected from those whose parents have given consent for them to participate in the study. Parents of children in those classrooms were asked to sign a consent form with contact information.

CATEGORIES OF RECORDS IN THE SYSTEM:

This system consists of the names and addresses of children in the evaluation and their parents as well as demographic information—such as race/ethnicity, age, educational background, and family income; names of preschool staff in the evaluation; parent and preschool staff responses to survey questions, children's results from early literacy and language assessments and teacher reports of children's social and emotional outcomes. Information collected will include the following: Names; addresses; demographic information such as race/ethnicity, age, educational background, and family income for children in the sample and their parents; and preschool staff answers to interview questions. Specific data collection activities will include direct in-person assessments of children, telephone surveys of parents, self-administered teacher surveys and teacher ratings of children, self-administered preschool director surveys, informal grantee director in-depth interviews, classroom observations, and extraction of records on children.

AUTHORITY FOR MAINTENANCE OF THE SYSTEM:

20 U.S.C. 6376, 9561(b) and 9563.

PURPOSE(S):

The information in this system is used for the following purposes: (1) To fulfill the requirements under section 1226 of the Elementary and Secondary Education Act (ESEA), for an evaluation of the Early Reading First program; and (2) to provide information on effective practices in Early Reading First for the purpose of improving the program.

ROUTINE USES OF RECORDS MAINTAINED IN THE SYSTEM, INCLUDING CATEGORIES OF USERS AND THE PURPOSE OF SUCH USES:

The Department of Education (the Department) may disclose information contained in a record in this system of records under the routine uses listed in this system of records without the consent of the individual if the disclosure is compatible with the purposes for which the record was collected. These disclosures may be made on a case-by-case basis or, if the Department has complied with the computer matching requirements of the Act, under a computer matching agreement. Any disclosure of individually identifiable information from a record in this system must also comply with the requirements of section 183 of the Education Sciences Reform Act (20 U.S.C. 9573) providing for confidentiality standards that apply to all collections, reporting, and publication of data by the Institute of Education Sciences.

Contract Disclosure. If the Department contracts with an entity for the purposes of performing any function that requires disclosure of records in this system to employees of the contractor, the Department may disclose the records to those employees. Before entering into such a contract, the Department shall require the contractor to maintain Privacy Act safeguards as required under 5 U.S.C. 552a(m) with respect to the records in the system.

DISCLOSURE TO CONSUMER REPORTING AGENCIES:

Not applicable to this system notice.

POLICIES AND PRACTICES FOR STORING, RETRIEVING, ACCESSING, RETAINING, AND DISPOSING OF RECORDS IN THE SYSTEM:

STORAGE:

The Department maintains records on CD-ROM and the contractors maintain data for this system on computers and in hard copy.

RETRIEVABILITY:

Records in this system are indexed by a number assigned to each individual that is cross-referenced by the individual's name on a separate list.

SAFEGUARDS:

All physical access to the Department site, and the sites of Department contractors where this system of records is maintained, is controlled and monitored by security personnel. The computer system employed by the Department offers a high degree of resistance to tampering and circumvention. This security system limits data access to Department and contract staff on a “need to know” basis, and controls individual users' ability to access and alter records within the system.

The contractor, Decision Information Resources, Inc. (DIR), and its subcontractors Mathematica Policy Research, Inc. (MPR) and the Center for Improving the Readiness of Children for Learning and Education (CIRCLE) at University of Texas-Houston Health Sciences Center have established a set of procedures to ensure confidentiality of data. All employees sign a pledge that emphasizes the importance of confidentiality and describes their obligations. Access to sample selection data is limited to those who have direct responsibility for providing the sample and maintaining the sample-locating information. At the conclusion of the research, these data are destroyed. Identifying information is maintained on separate forms and files, which are linked only by sample identification numbers. Access to the file that links sample identification numbers with the respondents' identification and contact information is limited to a small number of individuals who have a need to know this information. Access to the hardcopy documents is strictly limited. Documents are stored in locked files and cabinets. Discarded material is shredded. Computer data files are protected with passwords, and access is limited to specific users. Especially sensitive data are maintained on removable storage devices that are kept physically secure when not in use. An Institutional Review Board (IRB) has reviewed and approved the data collection protocol and the procedures used to ensure confidentiality. The parent consent form required for children's participation in the study states that information collected about the child will be kept confidential. The interviewers' introductory comments given at the beginning of each parent and grantee director interview includes all the information that respondents need for deciding to give informed consent (verbal) for that interview.

RETENTION AND DISPOSAL:

Records are maintained and disposed of in accordance with the Department's Records Disposition Schedules (ED/RDS). In particular, the Department will follow the schedules outlined in Part 3 (Research Projects and Management Study Records) and Part 14 (Electronic Records).

SYSTEM MANAGER AND ADDRESS:

Associate Commissioner, Evaluation Division, National Center for Education Evaluation and Regional Assistance, Institute of Education Sciences, U.S. Department of Education, 555 New Jersey Avenue, NW., room 502D, Washington, DC 20208-0001.

NOTIFICATION PROCEDURE:

If you wish to determine whether a record exists regarding you in the system of records, contact the systems manager. Your request must meet the requirements of regulations in 34 CFR 5b.5, including proof of identity.

RECORD ACCESS PROCEDURE:

If you wish to gain access to your record in the system of records, contact the system manager. Your request must meet the requirements of regulations in 34 CFR 5b.5, including proof of identity.

CONTESTING RECORD PROCEDURE:

If you wish to contest the content of a record regarding you in the system of records, contact the system manager. Your request must meet the requirements of regulations in 34 CFR 5b.7, including proof of identity.

RECORD SOURCE CATEGORIES:

Information is obtained from interviews with parents of Early Reading First participants and with Early Reading First staff, and from direct assessments of children attending Early Reading First preschools. In addition, information will be obtained from interviews with parents of children attending non-Early Reading First preschools and with non-Early Reading First preschool staff, and from direct assessments of children enrolled in non-Early Reading First preschools.

EXEMPTIONS CLAIMED FOR THE SYSTEM:

None.

[FR Doc. E6-19290 Filed 11-14-06; 8:45 am]

BILLING CODE 4000-01-P